DEPARTMENT OF LABOR

Office of the Secretary

Submission for OMB Review; Comment Request

March 18, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of a currently approved collection.

Title: Records to be kept by Employers—Fair Labor Standards Act (FLSA).

OMB Number: 1215-0017.

Frequency: Weekly.

Affected Public: Business or other for-profit; Individuals or household; Farms; Not-for-profit institutions; Federal government; State, local, or tribal government.

Number of Respondents: 5,800,000.

Number of Annual Responses: 5,800,000.

Estimated Time Per Response:

29 CFR | Employers | Employees | Burden hours
516.2 | 5,787,400 | 86,250,000 | 622,400
516.15 | (59) | (1,000) | 67
516.26 | (2,000) | (25,000) | 2,083
516.28 | (227,000) | (1,815,400) | 30,257
516.31 | (1,150) | (4,600) | 153
516.33 | (91,800) | (918,000) | 4,590
519.7 & 519.17 | (350) | (5,300) | 442
520.508 | (400) | (424) | 2
525.16 | (6,139) | (350,000) | 350,000
553.50 | (10,925) | (1,187,500) | 5,463
570.50 | (500) | (500) | 8
570.72 | (12,000) | (20,000) | 333

Burden Hours Total: 1,015,798.

Total annualized capital/startup costs: $0.

Total annual costs (operating/maintaining systems or purchasing services): $0.

Description: The FLSA sets minimum wage, overtime pay, and child labor and Recordkeeping standards. The requirements apply to employees engaged in interstate commerce or in the production of goods for interstate commerce and to employees in certain enterprises (including employees of a public agency). However, the law provides exemptions from some of its standards for employees in certain types of employment.

Ira L. Mills,
Departmental Clearance Officer.

[FR Doc. 04-6785 Filed 3-25-04; 8:45 am]

BILLING CODE 4510-27-P